DEPARTMENT OF AGRICULTURE

National Agricultural Statistics Service

Notice of Intent To Reinstate a Previously Approved Information Collection.

AGENCY: National Agricultural Statistics Service, USDA.

ACTION: Notice and request for comments.

SUMMARY: In accordance with the Paperwork Reduction Act of 1995, this notice announces the intention of the National Agricultural Statistics Service (NASS) to request a reinstatement, with changes, to a previously approved information collection, the Conservation Effects Assessment Project (CEAP) Survey. Revision to burden hours will be needed due to changes in the size of the target, sampling design, and/or questionnaire length.

DATES: Comments on this notice must be received by June 27, 2011 to be assured of consideration.

ADDRESSES: You may submit comments, identified by docket number 0535-0245, Conservation Effects Assessment Project (CEAP) Survey, by any of the following methods:

• E-mail: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue, SW., Washington, DC 20250-2024.

• Hand Delivery/Courier: Hand deliver to: David Hancock, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: Conservation Effects Assessment Project (CEAP) Survey.

OMB Control Number: 0535-0245.

Type of Request: To reinstate a previous approval for an information collection for a period of three years.

Abstract: The Conservation Effects Assessment Project (CEAP) was initiated by the United States Department of Agriculture (USDA) in 2003 as a multi-agency effort to quantify the environmental effects of conservation practices on agricultural lands. As part of this assessment, the National Agricultural Statistics Service (NASS) conducted on-site interviews with farmers during 2003-2006 to document tillage and irrigation practices, application of fertilizer, manure, and pesticides, and use of conservation practices at sample points drawn from the Natural Resources Inventory (NRI) sampling frame. These data were linked through the NRI frame to the Natural Resources Conservation Service (NRCS) soil survey, climate, and historical survey databases. The combined information was used to model the impact on soil and water resources and to estimate the benefits of conservation practices, including nutrient, sediment, and pesticide losses from farm fields, reductions in in-stream nutrient and sediment concentrations, and impacts on soil quality and erosion.

USDA needs updated scientifically credible data on residue and tillage management, nutrient management, and conservation practices in order to quantify and assess current impacts of farming practices and to document changes since 2006. A pilot survey focused in the Chesapeake Bay Watershed is planned for the end of the 2011 crop year, with enumeration extending into February 2012. This survey will be called the “NRI Conservation Tillage and Nutrient Management Survey” (NRI-CTNMS). The survey questionnaire is modeled after the 2003-2006 CEAP surveys and will be administered through personal interviews of farm operators by trained National Association of State Departments of Agriculture (NASDA) enumerators. The pilot study will occur at 1,500 NRI points located in Delaware, Maryland, New York, Pennsylvania, Virginia, and West Virginia. Data collected will provide conservation tillage estimates and will be used to model impacts of conservation practices on the larger environment. The summarized results of the NRI-CTNMS will be made available in a web-based format to agricultural producers and professionals, government officials, and the general public.

Authority: The Natural Resources Conservation Service's (NRCS's) participation in this agreement is authorized under the Soil and Water Resources Conservation Act of 1977, 16 U.S.C. 2001-2009, as amended, Economy Act U.S.C. 1535. NRCS contracted with NASS to collect and compile this data for them. These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Pub. L. 104-13 (44 U.S.C. 3501, et seq.) and Office of Management and Budget (OMB) regulations at 5 CFR part 1320.

NASS also complies with OMB Implementation Guidance, “Implementation Guidance for Title V of the E-Government Act, Confidential Information Protection and Statistical Efficiency Act of 2002 (CIPSEA),” 72 FR 33362-01, Jun. 15, 2007.

Estimate of Burden: Burden will be approximately 10 minutes for a first visit to verify operator of the NRI point, and 70 minutes at a second visit for the interview. (It may be possible to complete both during the same visit).

Respondents: Farmers and Ranchers.

Estimated Number of Respondents: 1,500.

Frequency of Responses: Potentially, 2 times for each respondent.

Estimated Total Annual Burden: 1,720 hours (based on an overall response rate of approximately 80%).

Copies of this information collection and related instructions can be obtained without charge from the NASS Clearance Officer, by calling (202) 720-2248 or by e-mail ombofficer@nass.usda.gov.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, April 7, 2011.
Joseph T. Reilly,
Associate Administrator.

[FR Doc. 2011-9976 Filed 4-26-11; 8:45 am]

BILLING CODE 3410-20-P